DEPARTMENT OF TRANSPORTATION

Federal Highway Administration

[Docket No. FHWA-2013-0048]

Notice of Funding Availability for Accelerated Innovation Deployment Demonstration

AGENCY: Federal Highway Administration (FHWA), Department of Transportation (DOT).

ACTION: Notice of funding availability; request for comments.

SUMMARY: This notice announces the availability of funding for Accelerated Innovation Deployment (AID) Demonstration authorized within the Technology and Innovation Deployment Program (TIDP) under the Moving Ahead for Progress in the 21st Century Act (MAP-21). This notice is addressed to organizations that are interested in applying and proposes selection criteria and application requirements for AID Demonstration funding. The FHWA requests comments on the content of this notice. The FHWA will take all comments into consideration and publish a final notice of funding availability.

The FHWA will solicit grant applications through the governmentwide electronic grants Web site at http://www.grants.gov.

DATES: All public comments must be received on or before November 22, 2013. Late-filed comments will be considered to the extent practicable.

The FHWA plans to conduct outreach regarding the AID Demonstration in the form of a Webinar within 2 weeks of this notice being issued. Participants can pre-register online at: https://connectdot.connectsolutions.com/tidp/event/. Information on the Webinar date and time will be emailed to registered participants. The Webinar will be recorded and posted on FHWA's Web site at http://www.fhwa.dot.gov/accelerating/grants.

ADDRESSES: You may submit comments, identified by docket number FHWA-2013-0048, by any of the following methods:

Federal eRulemaking Portal: Go to http://www.regulations.gov and follow the online instructions for submitting comments.

Mail: Docket Management Facility, U.S. Department of Transportation, 1200 New Jersey Avenue SE., Washington, DC 20590-0001.

Hand Delivery: West Building Ground Floor, Room W12-140, 1200 New Jersey Avenue SE., Washington, DC 20590-0001, between 9 a.m. and 5 p.m., Monday through Friday, except Federal holidays.

Instructions: You must include the agency name and docket number FHWA-2013-0048 on your comments. All comments received will be posted, without change, to http//www.regulations.gov, including any personal information provided.

FOR FURTHER INFORMATION CONTACT: Ms. Ewa Flom, Program Coordinator, Center for Accelerating Innovation, Federal Highway Administration, 1200 New Jersey Avenue SE., Washington, DC 20590, (202) 366-2169; or Ms. Seetha Srinivasan, Office of the Chief Counsel, Federal Highway Administration, 1200 New Jersey Avenue SE., Washington, DC 20590, (202) 366-4099. Office hours are from 8:00 a.m. to 4:30 p.m., e.t., Monday through Friday, except Federal holidays. A TDD is available for individuals who are deaf or hard of hearing at (202) 366-3993.

In addition, the FHWA will regularly post answers to questions and requests for clarifications on FHWA's Web site at http://www.fhwa.dot.gov/accelerating/grants. Applicants are encouraged to contact FHWA directly to receive information about AID Demonstration.

SUPPLEMENTARY INFORMATION:

Electronic Access

This document may be viewed online through the Federal eRulemaking portal at: http://www.regulations.gov. Regulations.gov is available 24 hours each day, 365 days each year. Electronic submission and retrieval help and guidelines are available under the help section of the Web site. An electronic copy of this document may also be downloaded by accessing the Office of the Federal Register's home page at: http://www.archives.gov/federal_register/, or the Government Printing Office's Web page at: http://www.gpo.gov/fdsys.

Request for Comments on Proposed Selection Criteria and Application Requirements

This notice invited interested parties to submit comments on the proposed selection criteria and application requirements described below. The FHWA will consider these comments and publish a final notice of funding availability.

Table of Contents

I. Background

II. Program Funding and Award

III. Eligibility

A. Entities Eligible to Apply for Funding

B. Eligible Uses of Funds

IV. Selection Criteria

V. Evaluation Process

VI. Application Process

A. Contents of Applications

B. Standard Form 424

C. Narrative

D. Contact Information

E. Protection of Confidential Business Information

F. Additional Information

G. Experiencing Technical Issues With Grants.gov

VII. Performance Measurement

VIII. Questions and Clarifications

I. Background

On July 6, 2012, President Obama signed into law MAP-21 (Pub. L. 112-141), which amends 23 U.S.C. 503 for TIDP to implement accelerated innovation deployment; future strategic highway research program findings and results; and accelerated implementation and deployment of pavement technologies. The TIDP relates to all aspects of highway transportation including planning, financing, operation, structures, materials, pavements, environment, and construction.

Section 503(c)(1) specifies the following TIDP goals: (A) Significantly accelerate the adoption of innovative technologies by the surface transportation community; (B) provide leadership and incentives to demonstrate and promote state-of the-art technologies, elevated performance standards, and new business practices in highway construction processes that result in improved safety, faster construction, reduced congestion from construction, and improved quality and user satisfaction; (C) construct longer-lasting highways through the use of innovative technologies and practices that lead to faster construction of efficient and safe highways and bridges; (D) improve highway efficiency, safety, mobility, reliability, service life, environmental protection, and sustainability; and (E) develop and deploy new tools, techniques, and practices to accelerate the adoption of innovation in all aspects of highway transportation.

II. Program Funding and Award

Section 51001 of MAP-21 authorized $62,500,000 for the TIDP for each of Fiscal Years (FY) 2013 and 2014. The FY 2013 and FY 2014 funds are subject to an annual obligation limitation that is established in appropriations law. The amount of TIDP budget authority available in a given year may be less than the amount authorized for that fiscal year.

The AID Demonstration is one aspect of the multifaceted TIDP approach. The FHWA expects approximately $15,000,000 to be made available in each of FY 2013 and FY 2014 for AID Demonstration. The FHWA expects to award AID Demonstration funds to multiple projects in each fiscal year. The FHWA has funding award goals of up to $14,000,000 available to State departments of transportation (State DOT) and up to $1,000,000 available to Federal Land Management Agencies and tribal governments. Initially, awards will be limited to one project per applicant, subject to the number of eligible applications and the availability of funds.

The amount of the award may be up to the full cost of the innovation, but only to a maximum of $1,000,000. States are also encouraged to use Section 1304 of MAP-21 “Innovative Project Delivery Methods” (23 U.S.C. 120(c)(3)) to increase the Federal share on these projects up to 5 percent. Information on the “Innovative Project Delivery Methods” provision is available at http://www.fhwa.dot.gov/map21/qandas/qaipd.cfm. These funding goals will be reviewed annually and may be adjusted to reflect current priorities and needs.

The FHWA will use an open, rolling solicitation. Applicants are encouraged to apply as soon as the eligible project is within 6 months of being initiated. Funds will be allocated upon award selection. Award recipients must obligate the awarded funds to the project within 6 months of allocation.

Award recipients must submit a final report to the FHWA within 6 months of project completion that documents the process, benefits, and lessons learned including development and/or refinement of guidance, specifications or other tools and methods to support rapid adoption of the innovation(s) as standard practice, as well as level of commitment by recipient to deploy the innovation as standard practice.

III. Eligibility

A. Entities Eligible To Apply for Funding

The AID Demonstration provides incentive funding for eligible entities to accelerate the implementation and adoption of innovation in highway transportation. Section 502(b)(3) of title 23, U.S.C., authorizes the Secretary to award research grants to a wide range of entities. The FHWA proposes to provide AID Demonstration grants to eligible State DOTs, Federal Land Management Agencies, and tribal governments. We believe these entities are the most likely to fulfill the deployment goals of the AID Demonstration program, since they are actively engaged in the deployment of new technologies. Consistent with other FHWA funding provided to tribes, any federally recognized tribe identified on the list of “Indian Entities Recognized and Eligible to Receive Services from the Bureau of Indian Affairs” (published at 77 FR 47868) is eligible to apply. Metropolitan planning organizations and local governments may apply through State DOTs as subrecipients. Applicants must submit applications electronically through Grants.gov.

The FHWA has funding award goals of up to $14,000,000 available to State DOTs and up to $1,000,000 available to Federal Land Management Agencies and tribal governments. Initially, awards will be limited to one project per applicant, subject to the number of eligible applications and the availability of funds. These funding goals will be reviewed annually and may be adjusted to reflect current priorities and needs.

B. Eligible Uses of Funds

The AID Demonstration funds are available for any project eligible for assistance under title 23, United States Code. Eligible projects may involve any aspect of highway transportation including planning, financing, operation, structures, materials, pavements, environment, and construction that address the TIDP goals mentioned in the “Background” section. Projects eligible for funding shall include proven innovative practices or technologies, including infrastructure and non-infrastructure strategies or activities, which the applicant or subrecipient intends to implement and adopt as a significant improvement from the applicant's or the subrecipient's conventional practice.

The amount of the award may be up to the full cost of the innovation in the project, but only to a maximum of $1,000,000. States are also encouraged to use Section 1304 of MAP-21 (23 U.S.C. 120(c)(3)) “Innovative Project Delivery Methods” on projects that may qualify to increase the Federal share by up to 5 percent. Information on the “Innovative Project Delivery Methods” is available at http://www.fhwa.dot.gov/map21/qandas/qaipd.cfm.

IV. Selection Criteria

The FHWA will award TIDP AID Demonstration funds to projects based on the selection criteria outlined below.

The FHWA will use an open, rolling solicitation. Project readiness will be treated as primary selection criteria in FHWA's evaluation process. The project must be ready to be advanced within 6 months of applying for AID Demonstration funding. An eligible project shall include an innovation that aligns with the previously described TIDP goals. The innovation must be proven in real-world application with documented benefits (in a form that is publicly available or verifiable), not routinely used by the applicant or the subrecipient, and of significant improvement from the applicant's or the subrecipient's conventional practice. The FHWA encourages the use of innovations included in the Every Day Counts (EDC) initiative. Please go to the following link to see examples of EDC initiatives: http://www.fhwa.dot.gov/everydaycounts/.

Initially, awards will be limited to one project per applicant, subject to the number of eligible applications and the availability of funds. To ensure a wide variety of innovations and project types, the FHWA will also initially limit awards to three projects per innovation. If several applications submitted at the same time are rated as “Qualified” and exceed the amount of available funding, the FHWA intends to give priority funding consideration to projects that (1) have not received TIDP funding, and (2) use an innovation that is included in the EDC initiative.

In the application, the applicant or the subrecipient must indicate willingness to: (1) Participate in monitoring and assessment activities regarding the effectiveness of the innovation(s) and subsequent technology transfer and information dissemination activities associated with the project; (2) accept FHWA oversight of the project; and (3) conduct a before and after customer satisfaction determination for construction projects.

V. Evaluation Process

The FHWA will evaluate AID Demonstration applications in accordance with the evaluation process discussed below.

The FHWA will establish an evaluation team of technical and professional staff with relevant experience and/or expertise to review each application received by FHWA through Grants.gov. The evaluation team will be responsible for reviewing, evaluating, and rating the applications as well as making funding recommendations to FHWA senior leadership.

After reviewing the application, the evaluation team may contact the applicant to discuss the application and confirm understanding of the requirements for participation in AID Demonstration. Based on the information collected, the evaluation team will prepare a summary assessment rating the application along with the team's recommendation. The summary assessment and recommendation will be presented to FHWA senior leadership to make a final determination on the approval of the award.

A. Selection Criteria

All applications will be evaluated on a first submitted basis and be assigned a rating of “Qualified” or “Not Qualified.” If several applications submitted at the same time are rated as “Qualified” and exceed the amount of available funding, the FHWA intends to give priority funding consideration to projects that (1) have not received TIDP funding and (2) use an innovation that is included in the EDC initiative.

The ratings are as follows:

1. Qualified

• Project ready to initiate within 6 months of applying for AID Demonstration funding;

• project innovation aligns with TIDP goals;

• innovation is proven in real-world application with documented benefits, and not routinely used by the applicant or the subrecipient;

• application describes the innovation's magnitude and scope of impact on the applicant's or the subrecipient's conventional practice;

• data is included that directly supports the requested funding amount;

• information provided on performance goals and measures for respective innovation demonstration and deployment activities;

• application indicates the applicant's or subrecipient's willingness to:

(1) participate in monitoring and assessment activities regarding the effectiveness of the innovation(s) and subsequent technology transfer and information dissemination activities associated with the project;

(2) accept FHWA oversight of the project; and

(3) conduct before and after customer satisfaction determinations for construction projects.

2. Not Qualified

• Project does not meet the eligibility requirements;

• application does not meet the “Qualified” rating;

• application fails to address one or more of the application requirements;

• applicant received AID Demonstration funding within the current fiscal year;

• three projects with the innovation were already awarded AID Demonstration funding.

VI. Application Process

A. Contents of Applications

The applicant will include all of the information requested below in their applications. The FHWA may request applicants to supplement the data in the application, but encourages applicants to submit the most relevant and complete information they can provide. The applicant should, to the extent practicable, provide data and evidence of project merits in a form that is publicly available or verifiable.

A complete application will consist of: (1) The Standard Form 424 (SF 424) available from Grants.gov, and (2) the narrative attachment to the SF 424 as described below.

B. Standard Form 424, Application for Federal Assistance

Applicants should see www.grants.gov/assets/SF424Instructions.pdf for instructions on completing the SF 424, which is part of the standard Grants.gov submission.

C. Narrative (Attachment to SF 424)

The applicant should include the supplemental narrative in the attachments section of the SF 424 mandatory form in Grants.gov to successfully complete the application process.

The applicant should respond to the application requirements described below. The supplemental narrative should be prepared with standard formatting (e.g. a single-spaced document, using a standard 12-point font, such as Times New Roman, with 1-inch margins) and should not exceed five pages.

An application should include information needed to verify that the project meets the statutory eligibility criteria as described in Section III (Eligibility) as well as other information required for FHWA to assess each of the criteria specified in Section IV (Selection Criteria). The applicant is required to demonstrate the responsiveness of the proposal to any pertinent selection criteria with the most relevant information that applicants can provide, regardless of whether such information is specifically requested or identified. The applicant should provide concrete evidence of project milestones, financial capacity, and commitment in order to support project readiness.

For ease of review, the narrative should generally adhere to the following basic outline, and include relevant maps and graphics:

1. Project Abstract: Describe work that would be completed under the project, whether the project is a complete project or part of a larger project with prior investment, and the aspect of highway transportation and the TIDP goals that the innovation would address (maximum five sentences). The project abstract should succinctly describe how this specific request for AID Demonstration funding would be included in the project.

2. Project Description: Brief description of the project and project objective(s), the innovation and related documented benefits, the performance goals and measures for the innovation, current organizational/institutional experience with the innovation, and the significant improvement to conventional practice expected.

3. Innovation Performance: Brief description of how the innovation will be monitored, assessed, and documented to determine if the performance goals and measures are achieved, including a timeline of demonstration, deployment, implementation, and/or adoption activities.

4. Applicant information and coordination with other entities: Identification of applicant, and subrecipient if applicable; description of cooperation with other entities; and information regarding any other entities involved in the project.

5. Funding Request: Summary of the funding request including the basis for determining the cost of the innovation in the project. The applicant should also include the total project cost.

6. Eligibility and Selection Criteria: Brief description of how the project meets the statutory eligibility criteria as described in Section III (Eligibility) and the selection criteria identified in Section IV (Selection Criteria).

D. Contact Information

The applicant should include contact information requested as part of the SF-424. The FHWA will use this information to contact applicants and to inform parties of FHWA's decision regarding selection of projects. Contact information should be provided for a direct employee of the applicant. Contact information for a contractor, agent, or consultant of the lead applicant is insufficient for FHWA's purposes.

E. Additional Information on Applying Through Grants.gov

Applications for AID Demonstration must be submitted through Grants.gov. To apply for funding through Grants.gov, applicants must be properly registered. Complete instructions on how to register and apply can be found at www.grants.gov. If interested parties experience difficulties at any point during the registration or application process, they should call the Grants.gov Customer Support Hotline at 1-800-518-4726, Monday-Friday from 7:00 a.m. to 9:00 p.m. e.t.

Registering with Grants.gov is a one-time process, however, processing delays may occur and it can take up to several weeks for first-time registrants to receive confirmation and a user password. Accordingly, FHWA highly recommends that potential applicants start the registration process as early as possible. In order to apply for AID Demonstration under this notice and to apply for funding through Grants.gov, all applicants are required to complete the following:

1. Acquire a Data Universal Numbering System (DUNS) Number. A DUNS number is required for Grants.gov registration. The Office of Management and Budget requires that all applicants for Federal funds include a DUNS number in their applications for a new award or renewal of an existing award. A DUNS number is a unique nine-digit sequence recognized as the universal standard for identifying and keeping track of entities receiving Federal funds. The identifier is used for tracking purposes and to validate address and point of contact information for Federal assistance applicants, recipients, and subrecipients. The DUNS number will be used throughout the grant life cycle. Obtaining a DUNS number is a free, one-time activity that can be completed by calling 1-866-705-5711 or by applying online at http://fedgov.dnb.com/webform.

2. Acquire or Renew Registration with the Central Contractor Registration (CCR) Database. All applicants for Federal financial assistance maintain current registrations in the CCR database. An applicant must be registered in the CCR to successfully register in Grants.gov. The CCR database is the repository for standard information about Federal financial assistance applicants, recipients, and subrecipients. Entities that have previously submitted applications via Grants.gov are already registered with CCR, as it is a requirement for Grants.gov registration. Please note, however, that applicants must update or renew their CCR registration at least once per year to maintain an active status, so it is critical to check registration status well in advance of relevant application deadlines. Information about CCR registration procedures can be accessed at: https://www.sam.gov/portal/public/SAM/.

3. Acquire an Authorized Organization Representative (AOR) and a Grants.gov Username and Password. Applicants will need to complete an AOR profile on Grants.gov and create a username and password. The assigned DUNS Number is required to complete this step. For more information about the registration process, go to: www.grants.gov/applicants/get_registered.jsp.

4. Acquire Authorization for the AOR from the E-Business Point of Contact (E-Biz POC). The E-Biz POC for the applicant must log in to Grants.gov to confirm the applicant as an AOR. Please note that there can be more than one AOR for each applicant.

5. Search for the Funding Opportunity on Grants.gov. Applicants can use the Catalog of Federal Domestic Assistance number for this solicitation, which is 20.200, titled Technology and Innovation Development Program, when searching for the AID Demonstration opportunity on Grants.gov.

6. Submit an Application Addressing All of the Requirements Outlined in this Notice of Funding Availability. Within 24 to 48 hours after submitting an electronic application, applicants should receive an email validation message from Grants.gov. The validation message will specify whether the application was received and validated or rejected, with an explanation.

Note: When uploading attachments, applicants should use generally accepted formats such as .pdf, .doc, and .xls. While applicants may imbed picture files such as .jpg, .gif, .bmp, in your files, they should not save and submit the attachment in these formats. Additionally, the following formats will not be accepted: .com, .bat, .exe, .vbs, .cfg, .dat, .db, .dbf, .dll, .ini, .log, .ora, .sys, and .zip.

F. Experiencing Technical Issues With Grants.gov

If interested parties experience difficulties at any point during the registration or application process, they should call the Grants.gov Customer Support Hotline at 1-800-518-4726, Monday-Friday from 7:00 a.m. to 9:00 p.m. e.t.

VII. Performance Measurement

Each applicant selected for AID Demonstration funding will need to work with FHWA on the development and implementation of a plan to collect information and report on the project's performance with respect to the relevant outcomes that are expected to be achieved through the innovation in the project. Each recipient of AID Demonstration funding will report on specified performance indicators for its project. Performance indicators will be identified for each project, and will consider the individual project's stated goals as well as resource constraints of the recipient. Performance indicators will not include formal goals or targets, but will include baseline measures as well as post-project outputs, and will inform the AID Demonstration program in working toward best practices, programmatic performance measures, and future decisionmaking guidelines. The recipient must submit a final report to FHWA within 6 months of project completion which documents the process, benefits, and lessons learned including development and/or refinement of guidance, specifications or other tools and methods to support rapid adoption of the innovation(s) as standard practice.

VIII. Questions and Clarifications

For further information concerning this notice please contact Ms. Ewa Flom, Program Coordinator, Center for Accelerating Innovation, (202) 366-2169, or Ms. Seetha Srinivasan, Office of the Chief Counsel, (202) 366-4099, Federal Highway Administration, 1200 New Jersey Avenue SE., Washington, DC 20590. Office hours are from 8 a.m. to 4:30 p.m., e.t., Monday through Friday, except Federal holidays. A TDD is available for individuals who are deaf or hard of hearing at (202) 366-3993.

In addition, FHWA will post answers to questions and requests for clarifications on FHWA's Web site at http://www.fhwa.dot.gov/accelerating/grants. Applicants are encouraged to contact FHWA directly to receive information about AID Demonstration.

Authority: Section 52003 of Pub. L. 112-141; 23 U.S.C. 503.

Issued on: October 21, 2013.
Victor M. Mendez,
FHWA Administrator.

[FR Doc. 2013-26053 Filed 10-31-13; 8:45 am]

BILLING CODE 4910-22-P